DEPARTMENT OF ENERGY

Federal Energy Regulatory Commission

[Project No. 516, South Carolina]

South Carolina Electric & Gas Company; Notice of Availability of Final Environmental Assessment

July 22, 2002.

In accordance with the National Environmental Policy Act of 1969 and the Federal Energy Regulatory Commission's (Commission) regulations, 18 CFR Part 380 (Order No. 486, 52 FR 47897), the Office of Energy Projects has prepared a Final Environmental Assessment (FEA) for the Saluda Dam Seismic Remediation Project. The Saluda Dam is a part of the Saluda Project (FERC No. 516) and is located on the Saluda River in Lexington, Richland, Newberry, and Saluda counties, South Carolina.

The FEA contains the staff's analysis of the potential environmental impacts of the dam remediation project and contains measures to minimize those impacts. The FEA concludes that the project, with recommended mitigation measures, would not constitute a major federal action that would significantly affect the quality of the human environment.

A copy of the FEA is on file with the Commission and is available for public inspection. The FEA may also be viewed on the Web at http://www.ferc.gov using the “RIMS” link—select “Docket #” and follow the instructions (call 202-208-2222 for assistance), or at http://www.ferc.gov/hydro/docs/saludafea.pdf.

For further information, contact John Mudre at (202) 219-1208 or john.mudre@ferc.gov.

Magalie R. Salas,
Secretary.

[FR Doc. 02-18985 Filed 7-25-02; 8:45 am]

BILLING CODE 6717-01-P